SMALL BUSINESS ADMINISTRATION

[Declaration of Disaster #3247]

State of Alabama

As a result of the President's major disaster declaration on March 17, 2000, I find that Jefferson and Tuscaloosa Counties in the State of Alabama constitute a disaster area due to damages caused by severe storms and flooding that occurred on March 10-11, 2000. Applications for loans for physical damage as a result of this disaster may be filed until the close of business on May 16, 2000, and for economic injury until the close of business on December 17, 2000 at the address listed below or other locally announced locations:

U.S. Small Business Administration, Disaster Area 2 Office, One Baltimore Place, Suite 300, Atlanta, GA 30308

In addition, applications for economic injury loans from small businesses located in the contiguous counties of Bibb, Blount, Fayette, Greene, Hale, Pickens, Shelby, St. Claire, and Walker in the State of Alabama may be filed until the specified date at the above location.

The interest rates are:

For Physical Damage

Homeowners With Credit Available Elsewhere—7.625%

Homeowners Without Credit Available Elsewhere—3.812%

Businesses With Credit Available Elsewhere—8.000%

Businesses and Non-Profit Organizations Without Credit Available Elsewhere—4.000%

Others (Including Non-Profit Organizations) With Credit Available Elsewhere—6.750%

For Economic Injury

Businesses and Small Agricultural Cooperatives Without Credit Available Elsewhere—4.000%

The number assigned to this disaster for physical damage is 324706 and for economic injury the number is 9G9300.

(Catalog of Federal Domestic Assistance Program Nos. 59002 and 59008)
Dated: March 23, 2000.
Bernard Kulik,
Associate Administrator for Disaster Assistance.

[FR Doc. 00-8025 Filed 3-30-00; 8:45 am]

BILLING CODE 8025-01-U